PENSION BENEFIT GUARANTY CORPORATION

29 CFR Part 4909

RIN 1212-AB51

Miscellaneous Corrections, Clarifications, and Improvements; Correction

AGENCY: Pension Benefit Guaranty Corporation.

ACTION: Final rule; correction.

SUMMARY: The Pension Benefit Guaranty Corporation (PBGC) is correcting a final rule that appeared in the Federal Register on August 15, 2025. The document made miscellaneous technical corrections, clarifications, and improvements to PBGC's regulations, including its regulations on premium rates, premium due dates, and termination of single-employer plans.

DATES: Effective September 15, 2025.

FOR FURTHER INFORMATION CONTACT: Monica O'Donnell (odonnell.monica@pbgc.gov), Attorney, Regulatory Affairs Division, Office of the General Counsel, Pension Benefit Guaranty Corporation, 445 12th Street SW, Washington, DC 20024-2101; 202-229-5507. If you are deaf or hard of hearing, or have a speech disability, please dial 7-1-1 to access telecommunications relay services.

SUPPLEMENTARY INFORMATION: In FR Doc. 25-15610 appearing on page 39320 in the Federal Register on August 15, 2025, on page 39329, in the third column, correct instruction 50 to read as follows:

50. Add part 4909 to read as follows:

PART 4909—OMB CONTROL NUMBERS FOR PBGC INFORMATION COLLECTION REQUIREMENTS [Corrected]

Authority: 29 U.S.C. 1302(b)(3), 5 CFR part 1320.

§ 4909.1 Information Collection Control Numbers.

PBGC regulations that contain information collections requirements without corresponding written or electronic forms, questionnaires, or instructions are displayed in table 1 to this section. They are displayed along with their respective control numbers as assigned by the Office of Management and Budget (OMB) under the Paperwork Reduction Act, 44 U.S.C. 3501 et seq.

Table 1 to § 4909.1
Regulation(s) and information collection title | OMB control No.
Part 4062, Liability for Termination of Single-Employer Plans | 1212-0017
Part 4204, Variances for Sale of Assets | 1212-0021
Part 4231, Mergers and Transfer Between Multiemployer Plans | 1212-0022
Part 4203, Extension of Special Withdrawal Liability Rules | 1212-0023
Part 4220, Procedures for PBGC Approval of Plan Amendments | 1212-0031
Part 4219, Notice, Collection, and Redetermination of Withdrawal Liability | 1212-0034
Part 4211, Allocating Unfunded Vested Benefits | 1212-0035
Part 4208, Reduction or Waiver of Partial Withdrawal Liability | 1212-0039
Part 4207, Reduction or Waiver of Complete Withdrawal Liability | 1212-0044
Part 4003, Administrative Appeals (Employers) | 1212-0061
Part 4003, Filings for Reconsiderations | 1212-0063
Parts 4041 and 4042, Disclosure of Information in Distress and PBGC-Initiated Termination Information | 1212-0065
Part 4233, Partitions of Eligible Multiemployer Plans | 1212-0068

Alice C. Maroni,
Acting Director, Pension Benefit Guaranty Corporation.

[FR Doc. 2025-16140 Filed 8-21-25; 8:45 am]

BILLING CODE 7709-02-P